DEPARTMENT OF ENERGY

Federal Energy Regulatory Commission

[Project No. 2210-169]

Appalachian Power Company, Virginia; Notice of Availability of the Draft Environmental Impact Statement for the Smith Mountain Pumped Storage Project and Announcing Intention To Hold Public Meeting

March 27, 2009.

In accordance with the National Environmental Policy Act of 1969 and the Federal Energy Regulatory Commission's (Commission) regulations, 18 CFR part 380 (Order No. 486, 52 FR 47897), the Office of Energy Projects has reviewed the application for license for the Smith Mountain Pumped Storage Project (FERC No. 2210), located on the headwaters of the Roanoke River in Bedford, Campbell, Franklin, and Pittsylvania counties in the Commonwealth of Virginia. Commission staff has prepared a draft Environmental Impact Statement (EIS) for the project.

The draft EIS contains staff's evaluation of the applicant's proposal and the alternatives for relicensing the Smith Mountain Project. The draft EIS documents the views of governmental agencies, non-governmental organizations, affected Indian tribes, the public, the license applicant, and Commission staff.

A copy of the draft EIS is available for review in the Commission's Public Reference Branch, Room 2A, located at 888 First Street, NE., Washington, DC 20426. The draft EIS also may be viewed on the Commission's web site at http://www.ferc.gov, under the eLibrary link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

Comments should be filed with: Kimberly D. Bose, Secretary, Federal Energy Regulatory Commission, 888 First Street, NE., Washington, DC, 20426. All comments must be filed by May 11, 2009, and should reference Project No. 2210-169. Comments may be filed electronically via the Internet in lieu of paper. The Commission strongly encourages electronic filings. See 18 CFR 385.2001(a)(1)(iii) and instructions on the Commission's Web site at http://www.ferc.gov under the eLibrary link.

Anyone may intervene in this proceeding based on this draft EIS (18 CFR 380.10). You must file your request to intervene as specified above.¹ You do not need intervenor status to have your comments considered.

¹ Interventions may also be filed electronically via the Internet in lieu of paper. See the previous discussion on filing comments electronically.

In addition to, or in lieu of, sending written comments, you are invited to attend a public meeting that will be held to receive comments on the draft EIS. The time and location of the meeting will be announced in a subsequent notice.

At this meeting, resource agency personnel and other interested persons will have the opportunity to provide oral and written comments, as well as recommendations, regarding the draft EIS. The meeting will be recorded by a court reporter, and all statements (verbal and written) will become part of the Commission's public record for the project. This meeting is posted on the Commission's calendar located at http://www.ferc.gov/EventCalendar/EventsList.aspx along with other related information.

For further information, contact Allan Creamer at (202) 502-8365, or via e-mail at allan.creamer@ferc.gov.

Kimberly D. Bose,
Secretary.

[FR Doc. E9-7443 Filed 4-1-09; 8:45 am]

BILLING CODE 6717-01-P